DEPARTMENT OF AGRICULTURE

Agricultural Marketing Service

7 CFR Parts 1000, 1001, 1005, 1006, 1007, 1030, 1032, 1033, 1124, 1126, 1131, and 1135

[Docket No. AO-14-A69, et al.; DA-00-03]

Milk in the Northeast and Other Marketing Areas; Notice of Extension of Time for Filing Comments

7 CFR part | Marketing area | AO Nos.
1000 | General Provisions of Federal Milk Marketing Orders
1001 | Northeast | AO-14-A69
1005 | Appalachian | AO-388-A11
1006 | Florida | AO-356-A34
1007 | Southeast | AO-366-A40
1030 | Upper Midwest | AO-361-A34
1032 | Central | AO-313-A43
1033 | Mideast | AO-166-A67
1124 | Pacific Northwest | AO-368-A27
1126 | Southwest | AO-231-A65
1131 | Arizona-Las Vegas | AO-271-A35
1135 | Western | AO-380-A17

AGENCY: Agricultural Marketing Service, USDA.

ACTION: Proposed rule; extension of time for filing comments.

SUMMARY: This document extends the time for filing comments on a recommended decision issued October 19, 2001, concerning proposed amendments to the minimum Class III and Class IV price formulas for Federal milk orders. Additional time to file comments was requested by a number of proprietary and cooperative handlers. Those requesting the extension state that more time is needed to fully analyze the impacts of the technical changes in the pricing formulas.

DATES: Comments are now due on or before January 25, 2002.

ADDRESSES: Comments (six copies) should be filed with the Hearing Clerk, Room 1083, South Building, United States Department of Agriculture, Washington, DC 20250. Parties filing comments are advised that faxing comments to (202) 690-0552 or e-mailing them to joyce.mcpherson@usda.gov may better assure their timely receipt and consideration. Reference should be made to the title of action and docket number.

FOR FURTHER INFORMATION CONTACT: Clifford M. Carman, Branch Chief, USDA/AMS/Dairy Programs, Order Formulation Branch, Room 2968, South Building, P.O. Box 96456, Washington, DC 20090-6456, (202) 720-7183, e-mail address: clifford.carman@usda.gov.

SUPPLEMENTARY INFORMATION: Prior documents in this proceeding:

Notice of Hearing: Issued April 6, 2000; Published April 14, 2000, (65 FR 20094).

Tentative Final Decision: Issued November 29, 2000; Published December 7, 2000, (65 FR 76832).

Extension of Time—Northeast, et al.; DA-00-03

Interim Final Rule: Issued December 21, 2000; Published December 28, 2000, (65 FR 82832).

Recommended Decision: Issued October 19, 2001; Published October 25, 2001, (66 FR 54064).

Notice is hereby given that the time for filing comments to the Recommended Decision on Proposed Amendments to Tentative Marketing Agreements and to the Class III and IV price formulas used under Federal milk orders is hereby extended from November 26, 2001, to January 25, 2002. This notice is issued pursuant to the provisions of the Agricultural Marketing Agreement Act of 1937, as amended (7 U.S.C. 601-674), and the applicable rules of practice and procedure governing the formulation of marketing agreements and marketing orders (7 CFR part 900).

List of Subjects in 7 CFR Parts 1000, 1001, 1005, 1006, 1007, 1030, 1032, 1033, 1124, 1126, 1131, and 1135

Milk marketing orders.

Dated: November 26, 2001.
Kenneth C. Clayton,
Acting Administrator, Agricultural Marketing Service.

[FR Doc. 01-29677 Filed 11-26-01; 3:07 pm]

BILLING CODE 3410-02-P